DEPARTMENT OF DEFENSE

Office of the Secretary

32 CFR Part 61

[DoD Directive 6000.6]

Medical Malpractice Claims Against Military and Civilian Personnel of the Armed Forces

AGENCY: Department of Defense.

ACTION: Final rule.

SUMMARY: This document removes information in Title 32 of the Code of Federal Regulations concerning Medical Malpractice Claims Against Military and Civilian Personnel of the Armed Forces. This part has served the purpose for which it was intended in the CFR and is no longer necessary.

DATES: Effective Date: July 20, 2004.

FOR FURTHER INFORMATION CONTACT: L.M. Bynum (703) 601-4722.

SUPPLEMENTARY INFORMATION: The revised DoD Directive 6000.6 is available at http://www.dtic.mil/whs/ directives/corres/dir2.html.

List of Subjects in 32 CFR Part 61

Government employees, health professions, Military personnel.

PART 61—[REMOVED]

Accordingly, by the authority of 10 U.S.C. 301, 32 CFR part 61 is removed.

Dated: July 13, 2004.
L.M. Bynum,
Alternate OSD Federal Register Liaison Officer, Department of Defense.

[FR Doc. 04-16396 Filed 7-19-04; 8:45 am]

BILLING CODE 5001-06-M